DEPARTMENT OF HOMELAND SECURITY

[Docket No. CISA-2022-0014]

Communications Assets Survey and Mapping (CASM) Tool

AGENCY: Cybersecurity and Infrastructure Security Agency (CISA), Department of Homeland Security (DHS).

ACTION: 60-Day notice and request for comments; extension without change of a currently approved collection request: 1670-0043.

SUMMARY: CISA is issuing a 60-day notice and request for comments to extend use of Information Collection Request (ICR) 1670-0043. CISA will submit the ICR to the Office of Management and Budget (OMB) for review and clearance in accordance with the Paperwork Reduction Act of 1995.

DATES: Comments are encouraged and will be accepted until January 3, 2023.

ADDRESSES: You may submit comments, identified by docket number CISA-2022-0012, by one of the following methods:

• Federal eRulemaking Portal: http://www.regulations.gov. Please follow the instructions for submitting comments.

• Mail: CISA strongly prefers comments to be submitted electronically. Written comments and questions about this Information Collection Request should be forwarded to DHS/CISA/ECD, ATTN: 1670-NEW, 245 Murray Lane SW, Mail Stop 0640, Kendall Carpenter, Arlington VA 20528.

Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Steven Singer at 202-499-0289 or at steven.singer@cisa.dhs.gov.

SUPPLEMENTARY INFORMATION: The CISA ECD, formed under Title XVIII of the Homeland Security Act of 2002, 6 U.S.C. 571 et seq., as amended, is required to develop and maintain the Nationwide Emergency Communications Plan (NECP). The vision of the NECP is to ensure emergency response personnel can communicate as needed, on demand, and as authorized. To achieve this vision, ECD provides the Communications Assets and Survey Mapping (CASM) Tool. The CASM Tool is the primary resource nationwide for the emergency communications community to inventory and share asset and training information for the purpose of planning public safety communications operability and interoperability.

ECD provides the CASM Tool as a secure and free nationwide database to contain communications capabilities for use by Federal, State, Local, Territorial, and Tribal (SLTT) emergency personnel. CASM allows Federal employees and SLTT Statewide Interoperability Coordinators (SWIC) to inventory emergency communication equipment and resources. The information entered is voluntary and used by SWIC to support tactical planning and coordination during emergencies. ECD does not utilize the information entered into CASM. ECD only provides, maintains, and stores the information entered in the CASM database and only has administrative access to the information entered. All information is collected via electronic means. The CASM registration and database tool is available online via https://casm.dhs.gov/. Users can also access and enter information via the CASM Resource Finder mobile app.

This is an EXTENSION of a current approved information collection without change.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Cybersecurity and Infrastructure Security Agency.

Title of Collection: Communications Assets Survey and Mapping Tool.

OMB Control Number: 1670-0043.

Frequency: Annually.

Affected Public: State, Local, Tribal, and Territorial Governments.

Number of Annualized Respondents: 56.

Estimated Time per Respondent: 5 minutes (0.08 hours) per registration or 30 minutes (0.50 hours) for tool modules.

Total Annualized Burden Hours: 341 hours.

Total Annualized Respondent Opportunity Cost: $16,215.

Total Annualized Respondent Out-of-Pocket Cost: $0.

Total Annualized Government Cost: $3,000,000.

Robert Costello,
Chief Information Officer, Department of Homeland Security, Cybersecurity and Infrastructure Security Agency.

[FR Doc. 2022-23987 Filed 11-3-22; 8:45 am]

BILLING CODE 9110-9P-P